DEPARTMENT OF STATE

[Public Notice 6219]

Advisory Committee on International Economic Policy; Notice of Open Meeting

The Advisory Committee on International Economic Policy (ACIEP) will meet from 2 p.m. to 4 p.m. on Tuesday, May 27, 2008, at the U.S. Department of State, 2201 C Street, NW., Room 1107, Washington, DC. The meeting will be hosted by Assistant Secretary of State for Economic, Energy and Business Affairs Daniel S. Sullivan and Committee Chair Ted Kassinger. The ACIEP serves the U.S. Government in a solely advisory capacity, and provides advice concerning issues and challenges in international economic policy. The meeting will focus on “Policies, Programs & Total Economic Engagement—The U.S.-Korea Relationship” with a particular emphasis on the geopolitical perspective and the U.S.-Korea Free Trade Agreement.

This meeting is open to public participation, though seating is limited. Entry to the building is controlled; to obtain pre-clearance for entry, members of the public planning to attend should provide, by Friday, May 23, their name, professional affiliation, valid government-issued ID number (i.e., U.S. Government ID [agency], U.S. military ID [branch], passport [country], or drivers license [state]), date of birth, and citizenship to Sherry Booth by fax (202) 647-5936, e-mail (BoothSL@state.gov), or telephone (202) 647-0847. One of the following forms of valid photo identification will be required for admission to the State Department building: U.S. driver's license, U.S. Government identification card, or any valid passport. Enter the Department of State from the C Street lobby. In view of escorting requirements, non-Government attendees should plan to arrive not less than 15 minutes before the meeting begins.

For additional information, contact Senior Coordinator Nancy Smith-Nissley, Office of Economic Policy Analysis and Public Diplomacy, Bureau of Economic, Energy and Business Affairs, at (202) 647-1682 or Smith-NissleyN@state.gov.

Dated: May 2, 2008.
David R. Burnett,
Office Director, Office of Economic Policy Analysis and Public Diplomacy, Department of State.

[FR Doc. E8-10439 Filed 5-8-08; 8:45 am]

BILLING CODE 4710-07-P